ENVIRONMENTAL PROTECTION AGENCY

40 CFR Part 49

[EPA-R08-OAR-2012-0479; FRL9923-70-Region 8]

Approval and Promulgation of Federal Implementation Plan for Oil and Natural Gas Well Production Facilities; Fort Berthold Indian Reservation (Mandan, Hidatsa and Arikara Nation), North Dakota; Correction

AGENCY: Environmental Protection Agency (EPA).

ACTION: Correcting amendment.

SUMMARY: This document contains corrections to the final rule, which published in the Federal Register on March 22, 2013 (78 FR 17836). Errors in the amendatory instruction are identified and corrected in this action.

DATES: This action is effective March 30, 2015.

FOR FURTHER INFORMATION CONTACT: Kathy Ayala, Air Program, U.S. Environmental Protection Agency (EPA), Region 8, Mailcode 8P-AR, 1595 Wynkoop Street, Denver, Colorado 80202-1129, 303-312-6142, ayala.kathy@epa.gov.

SUPPLEMENTARY INFORMATION:

Background

The final regulations for 40 CFR part 49 subsections 49.4161 through 49.4168 that are the subject of this correction were finalized and published March 22, 2013 (78 FR 17836). A previous final rule published in the Federal Register at 77 FR 48878, August 15, 2012, published the interim provisions at 40 CFR part 49 subsections 49.140 through 49.147.

Need for Correction

As published, the final regulations contain an error in the amendatory instruction and set-out text:

List of Subjects in 40 CFR Part 49

Environmental protection, Administrative practice and procedure, Air pollution control, Indians, Intergovernmental relations, Reporting and recordkeeping requirements.

Accordingly, 40 CFR part 49 is corrected by making the following correcting amendment:

PART 49—INDIAN COUNTRY: AIR QUALITY PLANNING AND MANAGEMENT

1. The authority citation for Part 49 continues to read as follows:

Authority: 42 U.S.C. 7401, et seq.

Subpart C—General Federal Implementation Plan Provisions

§§ 49.140 through 49.147 [Removed and Reserved]

2. Remove and reserve §§ 49.140 through 49.147

Dated: March 19, 2015.
Shaun L. McGrath,
Regional Administrator, Region 8.

[FR Doc. 2015-07230 Filed 3-27-15; 8:45 am]

BILLING CODE 6560-50-P